DEPARTMENT OF HEALTH AND HUMAN SERVICES

National Institutes of Health

National Institute of Mental Health Amended; Notice of Meeting

Notice is hereby given of a change in the meeting of the National Advisory Mental Health Council, September 15, 2020, 9:00 a.m. to September 15, 2020, 5:00 p.m., National Institutes of Health, Neuroscience Center, 6001 Executive Blvd., Rockville, MD 20852, which was published in the Federal Register on January 07, 2020, 85 FR 725.

This notice is being amended to change the format of the meeting from in-person to a virtual meeting. Open session will be videocast from this link: https://videocast.nih.gov/watch=38157. The date and times of the meeting will remain the same. The meeting is partially Closed to the public.

Dated: July 16, 2020.
Melanie J. Pantoja,
Program Analyst, Office of Federal Advisory Committee Policy.

[FR Doc. 2020-15785 Filed 7-21-20; 8:45 am]

BILLING CODE 4140-01-P